Memorandum of July 21, 2010

Delegation of Certain Functions and Authorities

Memorandum for the Secretary of State

By the authority vested in me as President by the Constitution and the laws of the United States, including section 301 of title 3, United States Code, I hereby delegate to you the following functions and authorities:

•The function to make the specified reports to the Congress under 22 U.S.C. 2291-4(c).

•The function and authority to waive the provisions of section 1003 of Public Law 100-204 (22 U.S.C. 5202) upon making certain determinations and certifications under section 7034(b) of the Consolidated Appropriations Act, 2010 (Public Law 111-117) and any subsequently enacted provision of law that is the same or substantially the same.

You are authorized and directed to publish this memorandum in the Federal Register.

THE WHITE HOUSE,

Washington, July 21, 2010

[FR Doc. 2010-18448

Filed 7-23-10; 11:15 am]

Billing code 4710-10-P